ENVIRONMENTAL PROTECTION AGENCY

40 CFR Part 52

[FRL-7485-3]

Prevention of Significant Deterioration; Notice of Withdrawal of Delegation of Authority; Bay Area Air Quality Management District; Kern County Air Pollution Control District; Nevada Division of Environmental Protection; San Diego County Air Pollution Control District; Santa Barbara County Air Pollution Control District; Shasta County Air Quality Management District; South Coast Air Quality Management District; and Washoe County District Health Department

AGENCY: Environmental Protection Agency (EPA).

ACTION: Notice of withdrawal of delegation of PSD permitting authority.

SUMMARY: This document is to inform interested parties that, by letters dated March 3, 2003, the Regional Administrator of EPA, Region 9, has rescinded the Region's delegations of authority to issue federal Prevention of Significant Deterioration (PSD) permits to the following agencies in California and Nevada: Bay Area Air Quality Management District; Kern County Air Pollution Control District; Nevada Division of Environmental Protection; San Diego County Air Pollution Control District; Santa Barbara County Air Pollution Control District; Shasta County Air Quality Management District; South Coast Air Quality Management District; and Washoe County District Health Department.

DATES: The letters withdrawing delegation to these jurisdictions specify that the rescission of the PSD delegations is effective on March 3, 2003.

ADDRESSES: You can inspect copies of the delegation agreements and Region 9's letters rescinding each delegation agreement at our Region IX office during normal business hours. Due to security procedures, please call Curt Taipale at 415-972-3966 at least one day in advance of inspecting these documents at our office: Permits Office (AIR-3), Air Division, U.S. Environmental Protection Agency, Region IX, 75 Hawthorne Street, San Francisco, CA 94105.

You may also see copies of the pertinent delegation agreement and rescission letter at the following locations:

Bay Area Air Quality Management District, 939 Ellis Street, San Francisco, CA 94109.

California Air Resources Board, Stationary Source Division, Rule Evaluation Section, 1001 “I” Street, Sacramento, CA 95814.

Kern County Air Pollution Control District, 2700 “M” Street, Suite 302, Bakersfield, CA 93301-2370.

Nevada Division of Environmental Protection, Bureau of Air Pollution Control, 333 West Nye Lane, Carson City, NV 89706.

San Diego Air Pollution Control District, 9150 Chesapeake Drive, San Diego, CA 92123-1096.

Santa Barbara County Air Pollution Control District, 26 Castilian Drive B-23, Goleta, CA 93117.

Shasta County Air Quality Management District, 1855 Placer Street, Suite 101, Redding, CA 96001-1759.

South Coast Air Quality Management District, 21865 E. Copley Drive, Diamond Bar, CA 91765-4182.

Washoe County District Health Department, Air Quality Management Division, 401 Ryland Street, Suite 331, Reno, Nevada 89502.

FOR FURTHER INFORMATION CONTACT: Gerardo Rios, EPA Region IX, (415) 972-3974, or send e-mail to rios.gerardo@epa.gov.

SUPPLEMENTARY INFORMATION: Throughout this document, “we,” “us” and “our” refer to EPA.

I. Background

In 1978, EPA published final regulations at 40 CFR 52.21, implementing the PSD program required under Part C of the Clean Air Act, 42 U.S.C. 7475-7479. See 43 FR 26403 (June 19, 1978). The PSD regulations provide authority to EPA to delegate the responsibility for conducting PSD source review to a State or local air pollution control agency. 40 CFR 52.21(u). In general, delegations are implemented through agreements between EPA Regions and state or local air pollution control agencies. These agreements are in essence contracts between the Agency and permitting agencies, setting out the responsibilities of each in carrying out the federal PSD program for that jurisdiction. The specific elements of delegation agreements vary to take into consideration particular circumstances, such as legal restrictions that may apply in a specific jurisdiction.

Pursuant to its authority under § 52.21(u), Region 9 entered into delegation agreements with the following permitting agencies on the date specified: Bay Area Air Quality Management District—April 23, 1986; Kern County Air Pollution Control District—August 12, 1999; Nevada Division of Environmental Protection—May 27, 1983; San Diego County Air Pollution Control District—November 21, 1985; Santa Barbara County Air Pollution Control District—August 21, 1985; Shasta County Air Quality Management District—July 8, 1985; South Coast Air Quality Management District—January 15, 1997; and Washoe County District Health Department—April 9, 1985. Region 9 published notices of the delegation agreements in the Federal Register at various dates.

On December 31, 2002, EPA published its Final Rule significantly revising 40 CFR 52.21. 67 FR 80186 (Dec. 31, 2002). The revised rules were effective on March 3, 2003.

Since publication of the revised PSD rules, Region 9 has consulted with each of the California permitting agencies that implemented 40 CFR 52.21 pursuant to a delegation agreement and with the California Air Resources Board (CARB). The permitting agencies and CARB have informed Region 9 that they are unable to implement 40 CFR 52.21 as revised without making changes to California law and/or local regulations. Region 9 has also discussed the issue with the Nevada Division of Environmental Protection, who indicated that changes to Nevada law would be necessary for either NDEP or the Washoe County District Health Department to implement the revisions to 40 CFR 52.21.

As the California and Nevada permitting agencies identified above did not believe that their current law would allow them to implement revised 40 CFR 52.21, Region 9 will resume issuing federal PSD permits as of the date the revisions to 40 CFR 52.21 take effect. Region 9 has issued a letter to each permitting agency in the Region that is implementing 40 CFR 52.21 pursuant to a delegation agreement, advising the permitting agencies that the delegation of federal PSD permitting authority would be rescinded effective March 3, 2003. A copy of each letter rescinding the PSD delegation of authority is available for inspection and copying at the addresses provided above.

EPA's withdrawal of authority to implement the federal PSD permitting program does not affect permitting requirements under state or local law. Companies should continue to work with their state or local permitting agencies to ensure that state or local permitting requirements are met.

II. EPA Action

We have written letters rescinding the delegation agreements to implement the regulations at 40 CFR 52.21 for the following California permitting agencies: Bay Area Air Quality Management District; Kern County Air Pollution Control District; San Diego County Air Pollution Control District; Santa Barbara County Air Pollution Control District; Shasta County Air Quality Management District; and South Coast Air Quality Management District. We have written a letter rescinding the delegation agreements to implement the regulations at 40 CFR 52.21 for the following Nevada permitting agencies: Nevada Division of Environmental Protection; Washoe County District Health Department.

List of Subjects in 40 CFR Part 52

Environmental protection, Air pollution control, Intergovernmental regulations, Reporting and recordkeeping requirements.

Dated: April 2, 2003.
Alexis Strauss,
Acting, Regional Administrator, Region IX.

[FR Doc. 03-9621 Filed 4-18-03; 8:45 am]

BILLING CODE 6560-50-P